DEPARTMENT OF THE TREASURY

Office of Foreign Assets Control

Additional Designations Pursuant to New Zimbabwe Executive Order Signed by President Bush on July 25, 2008 “Blocking Property of Additional Persons Undermining Democratic Processes or Institutions in Zimbabwe” (the “Order”)

AGENCY: Office of Foreign Assets Control, Treasury.

ACTION: Notice.

SUMMARY: The Treasury Department's Office of Foreign Assets Control (“OFAC”) is publishing the names of seventeen newly-designated entities and one individual whose property and interests in property are blocked pursuant to the Order.

DATES: The designation by the Director of OFAC of the seventeen entities and one individual identified in this notice, pursuant to the Order is effective July 25, 2008.

FOR FURTHER INFORMATION CONTACT: Assistant Director, Compliance Outreach & Implementation, Office of Foreign Assets Control, Department of the Treasury, 1500 Pennsylvania Avenue, NW. (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On July 25, 2008, the President issued a new Executive Order with respect to Zimbabwe pursuant to, inter alia, the International Emergency Economic Powers Act (50 U.S.C. 1701-06). In the Order, the President took additional steps with respect to the national emergency declared in Executive Order 13288 of March 7, 2003, and relied upon for additional steps taken in Executive Order 13391 of November 22, 2005, in order to address the continued political repression and the undermining of democratic processes and institutions in Zimbabwe.

Section 1 of the Order blocks, with certain exceptions, all property, and interests in property, that are in, or hereafter come within, the United States or the possession or control of United States persons for persons determined by the Secretary of the Treasury, in consultation with the Secretary of State, to satisfy any of the criteria set forth in subparagraphs (a)(i) through (a)(vii) of Section 1. On July 25, 2008, the Director of OFAC designated, pursuant to one or more of the criteria set forth in subparagraphs (a)(i) through (a)(vii) of Section 1 of the Order, the following seventeen entities and one individual, whose names have been added to the list of Specially Designated Nationals and whose property and interests in property are blocked, pursuant to the Order:

Entities

1. AGRICULTURAL DEVELOPMENT BANK OF ZIMBABWE (a.k.a. AGRIBANK; a.k.a. AGRICULTURAL BANK OF ZIMBABWE), Box 369, Harare, Zimbabwe; 15th Floor, Hurudza House, 14-16 Nelson Mandela Avenue, Harare, Zimbabwe; Phone No. 263-4-774426; Fax No. 263-4-774556 [ZIMBABWE]

2. COMOIL (PVT) LTD, 2nd Floor, Travel Plaza, 29 Mazoe St., Box CY2234, Causeway, Harare, Zimbabwe; Block D, Emerald Hill Office P, Emerald Park, Harare, Zimbabwe [ZIMBABWE]

3. DIVINE HOMES (PVT) LTD (a.k.a. DIVINE HOMES), 12 Meredith Drive, Eastlea, Harare, Zimbabwe; 31 Kensington, Highlands, Harare, Zimbabwe; Shop # 6, Hillside Shopping Center, Harare, Zimbabwe [ZIMBABWE]

4. FAMBA SAFARIS, P.O. Box CH273, Chisipite, Harare, Zimbabwe; 4 Wayhill Lane, Umwisdale, Harare, Zimbabwe [ZIMBABWE]

5. INDUSTRIAL DEVELOPMENT CORPORATION OF ZIMBABWE LTD (a.k.a. INDUSTRIAL DEVELOPMENT CORPORATION OF ZIMBABWE), P.O. Box CY1431, Causeway, Harare, Zimbabwe; 93 Park Lane, Harare, Zimbabwe; Phone 263-4-794805; Fax No. 263-4-250385 [ZIMBABWE]

6. INFRASTRUCTURE DEVELOPMENT BANK OF ZIMBABWE (a.k.a. ZIMBABWE DEVELOPMENT BANK), P.O. Box 1720, Harare, Zimbabwe; ZDB House, 99 Rotten Row, Harare, Mashonaland East, Zimbabwe; Phone No. 263-4-7501718; Fax No. 263-4-7744225 [ZIMBABWE]

7. INTERMARKET HOLDINGS LIMITED, 10th Floor ZB House, 46 Speke Avenue, P.O. Box 3198, Harare, Zimbabwe; Phone No. 263-4-751168; Fax No. 263-4-251029 [ZIMBABWE]

8. MINERALS MARKETING CORPORATION OF ZIMBABWE (a.k.a. MMCZ), 90 Mutare Road, Harare, Zimbabwe; P.O. Box 2628, Harare, Zimbabwe; Phone No. 263-4-486946; Fax No. 263-4-487261 [ZIMBABWE]

9. ORYX NATURAL RESOURCES (a.k.a. ORYX DIAMONDS; a.k.a. ORYX DIAMONDS (PTY) LTD; a.k.a. ORYX DIAMONDS LTD.; a.k.a. ORYX ZIMCON (PVT) LIMITED), Bank of Nova Scotia Bldg., Fourth Floor, George Town, Grand Cayman, Cayman Islands; 3, Victor Darcy Close, Borrowdale, Harare, Zimbabwe; S Drive, George Town, Grand Cayman, Cayman Islands; Parc Nicol Offices, Bldg. 6, 301, William Nicol Drive, Bryanston, Gauteng 2021, South Africa; Alexander Forbes Building, Windhoek, Namibia; Bermuda [ZIMBABWE]

10. OSLEG (a.k.a. OPERATION SOVEREIGN LEGITIMACY; a.k.a. OSLEG (PVT.) LTD.; a.k.a. OSLEG ENTERPRISES; a.k.a. OSLEG MINES; a.k.a. OSLEG MINING AND EXPLORATION; a.k.a. OSLEG VENTURES), Lonhoro House, Union Avenue, Harare, Zimbabwe [ZIMBABWE]

11. SCOTFIN LIMITED, 10th Floor ZB House, 46 Speke Avenue, P.O. Box 3198, Harare, Zimbabwe; Phone No. 263-4-751168; Fax No. 263-4-251029 [ZIMBABWE]

12. ZB BANK LIMITED (a.k.a. ZB BANK; a.k.a. ZBCL; a.k.a. ZIMBABWE BANKING CORPORATION LIMITED; a.k.a. ZIMBANK), Zimbank House, Cnr. 1st Street/Speke Avenue, Harare, Zimbabwe; P.O. Box 3198, Harare, Zimbabwe; Phone No. 263-4-751168; Fax No. 263-4-757497 [ZIMBABWE]

13. ZB FINANCIAL HOLDINGS LIMITED (a.k.a. FINHOLD; a.k.a. WWW.ZB.CO.ZW; a.k.a. ZIMBABWE FINANCIAL HOLDINGS LIMITED), 10th Floor ZB House, 46 Speke Avenue, P.O. Box 3198, Harare, Zimbabwe; National ID No. 1278/89 (Zimbabwe); Phone No. 263-4-751168; Fax No. 263-4-251029 [ZIMBABWE]

14. ZB HOLDINGS LIMITED, 10th Floor ZB House, 46 Speke Avenue, P.O. Box 3198, Harare, Zimbabwe; Phone No. 263-4-751168; Fax No. 263-4-251029 [ZIMBABWE]

15. ZIMBABWE IRON AND STEEL COMPANY (a.k.a. ZISCO; a.k.a. ZISCOSTEEL), Private Bag 2, Redcliff Zimbabwe, Zimbabwe; Phone No. 263-55-62401; Fax No. 263-55-68666 [ZIMBABWE]

16. ZIMBABWE MINING DEVELOPMENT CORPORATION (a.k.a. ZIMBABWE MINING DEVELOPMENT CORP.; a.k.a. ZMDC), MMCZ Building, 90 Mutare Rd., Harare, Zimbabwe; P.O. Box 4101, Harare, Zimbabwe; Phone No. 263-4-487014; Fax No. 263-4-487022 [ZIMBABWE]

17. ZIMRE HOLDINGS LIMITED (a.k.a. WWW.ZHL.CO.ZW; a.k.a. ZIMRE), 9th Floor, Zimre Centre, Cnr. Leopold Takawira/Kwame Nkrumah Avenue, P.O. Box 4839, Harare, Zimbabwe; Phone No. 263-4-772963; Fax No. 263-4-772972 [ZIMBABWE]

Individual

1. AL-SHANFARI, Thamer Bin Said Ahmed (a.k.a. AL SHANFARI, SHEIKH THAMER; a.k.a. AL SHANFARI, Thamer; a.k.a. AL SHANFARI, Thamer Said Ahmed; a.k.a. AL-SHANFARI, Thamer Bin Saeed; a.k.a. AL-SHANFARI, Thamer Said Ahmed; a.k.a. SHANFARI, Thamer), P.O. Box 18, Ruwi 112, Oman; DOB 3 Jan 1968; citizen Oman; nationality Oman; Passport 00000999 (Oman); alt. Passport 3253 (Oman); Chairman & Managing Director, Oryx Group and Oryx Natural Resources (individual) [ZIMBABWE]

Dated: July 25, 2008.
Virginia R. Canter,
Acting Director, Office of Foreign Assets Control.

[FR Doc. E8-17647 Filed 7-31-08; 8:45 am]

BILLING CODE 4811-42-P